NATIONAL AERONAUTICS AND SPACE ADMINISTRATION

[Notice: 024-044]

NASA Astrophysics Advisory Committee; Meeting

AGENCY: National Aeronautics and Space Administration.

ACTION: Notice of meeting.

SUMMARY: In accordance with the Federal Advisory Committee Act, as amended, the National Aeronautics and Space Administration (NASA) announces a meeting of the Astrophysics Advisory Committee. This Committee reports to the Director, Astrophysics Division, Science Mission Directorate, NASA Headquarters. The meeting will be held for the purpose of soliciting, from the scientific community and other persons, scientific and technical information relevant to program planning.

DATES: Tuesday, July 23, 2024, 9 a.m. to 5 p.m., eastern time, and Wednesday, July 24, 2024, 9 a.m. to 5 p.m., eastern time.

ADDRESSES: Meetings will be virtual. See Webex information below.

FOR FURTHER INFORMATION CONTACT: Ms. KarShelia Kinard, Science Mission Directorate, NASA Headquarters, Washington, DC 20546, 202-358-2355 or karshelia.kinard@nasa.gov.

SUPPLEMENTARY INFORMATION: As noted above, these meetings are virtual and will take place by dial-in and via Webex. Any interested person must use a touch-tone phone to participate in this meeting. The Webex connectivity information for each day is provided below. For audio, when you join the Webex event, you may use your computer or provide your phone number to receive a call back, otherwise, call the U.S. toll conference number listed for each day. For Tuesday, July 23, 2024, the WebEx information for attendees is: https://nasaenterprise.webex.com/nasaenterprise/j.php?MTID=m650b5d5809f4592a126142f1cb65af4f. The meeting number is: 2823 246 9893 and the meeting password is: Apac0724#. To join by telephone the United States toll-free numbers are, 1-929-251-9612 (New York City) or 1-415-527-5035. (Access Code: 2823 246 9893).

For Wednesday, July 24, 2024, the WebEx information for attendees is: https://nasaenterprise.webex.com/nasaenterprise/j.php?MTID=m09763dbba6a36db6999a2e6900a05f5d. The meeting number is: 2823 807 2902 and the meeting password is: Apac0724#. To join by telephone the United States toll-free numbers are 1-929-251-9612 (New York City) or 1-415-527-5035 (Access code: 2823 807 2902).

The agenda for the meeting includes the following topics:

—Astrophysics Division Update

—Updates on Specific Astrophysics Missions

—Discussion of reports from the Program Analysis Groups

The agenda will be posted on the Astrophysics Advisory Committee web page: https://beta.science.nasa.gov/researchers/nac/science-advisory-committees/apac/. The public may submit and upvote comments/questions ahead of the meeting through the website:: APAC Summer Meeting 2024—NASA (cnf.io), that will be opened for input on July 10, 2024.

It is imperative that the meeting be held on these dates to accommodate the scheduling priorities of the key participants.

Carol J. Hamilton,
Acting Advisory Committee Management Officer, National Aeronautics and Space Administration.

[FR Doc. 2024-14453 Filed 6-28-24; 8:45 am]

BILLING CODE 7510-13-P